DEPARTMENT OF TRANSPORTATION

Federal Highway Administration

Environmental Impact Statement: Sonoma County, CA

AGENCY: Federal Highway Administration (FHWA) DOT.

ACTION: Notice of withdrawal.

SUMMARY: The FHWA is issuing this notice to advise the public that the Notice of Intent, issued on October 24, 2000, to prepare an Environmental Impact Statement (EIS) for the proposed median widening to accommodate high occupancy vehicle lanes on the United States Highway 101 (U.S. 101) in Sonoma County, California will be withdrawn; and an Environmental Assessment (EA) in lieu of an EIS is being prepared for this proposed highway project.

FOR FURTHER INFORMATION CONTACT: Mr. Maiser Khaled, District Operations—North, Federal Highway Administration, California Division, 980 9th Street, Suite 400, Sacramento, California 95814-2724, Telephone: (916) 498-5020.

SUPPLEMENTARY INFORMATION: The FHWA, in cooperation with the California Department of Transportation (Caltrans), conducted studies of the potential environmental impacts associated with the proposed highway project to widen the U.S. 101 for the purpose of adding high occupancy vehicle lanes through the City of Santa Rosa in Sonoma County, California. During the course of conducting these studies and coordinating with regulatory and resource agencies, it was found that many of the potential environmental issues that led to issuing the Notice of Intent were not significant. In addition, changes to avoid or minimize potential impacts identified in early scoping have been made to the designs. The FHWA has determined that the proposed project is not likely to result in significant impacts to the environment; that an EA would be an appropriate environmental document for the project; and that the Notice of Intent (issued on October 24, 2000, and available on the Federal Register of October 30, 2000) should be withdrawn.

The EA will be available for public inspection prior to the public meeting. Comments or questions concerning this proposed action and the determination that an EA is the proper environmental document should be directed to the FHWA at the address provided above.

(Catalog of Federal Domestic Assistance Program Number 20.205, Highway Research Planning and Construction. The regulations implementing Executive Order 12372 regarding intergovernmental consultation on Federal programs and activities apply to this program.)
Issued on: April 29, 2003.
Maiser A. Khaled,
Chief, District Operations—North Sacramento, California.

[FR Doc. 03-10985 Filed 5-2-03; 8:45 am]

BILLING CODE 4910-22-M